DEPARTMENT OF AGRICULTURE

Rural Utilities Service

Cardinal-Hickory Creek 345-kV Transmission Line Project

AGENCY: Rural Utilities Service, USDA.

ACTION: Notice of availability of a Record of Decision.

SUMMARY: The U.S. Department of Agriculture (USDA) Rural Utilities Service (RUS), U.S. Fish and Wildlife Service (USFWS), and U.S. Army Corps of Engineers (USACE) have issued a single Record of Decision (ROD) to approve the Final Environmental Impact Statement (FEIS) for the proposed Cardinal-Hickory Creek 345-kilovolt (kV) Transmission Line Project (C-HC Project). The C-HC Project will connect the Cardinal Substation in Dane County, Wisconsin with the Hickory Creek Substation in Dubuque County, Iowa. The C-HC Project also includes a new intermediate 345-/138-kV substation near the village of Montfort in Grant County, Wisconsin. The total length of the 345-kV transmission lines associated with the proposed project will be approximately 100 miles.

ADDRESSES: To obtain copies of the ROD or for further information, contact: Dennis Rankin, Environmental Protection Specialist, USDA, Rural Utilities Service, 1400 Independence Avenue SW, Room 2244, Stop 1571, Washington, DC 20250-1571, by telephone at (202) 720-1414, or email Dennis.Rankin@usda.gov. The ROD and Final Environmental Impact Statement are available online at https://www.rd.usda.gov/publications/environmental-studies/impact-statements/cardinal-%E2%80%93-hickory-creek-transmission-line.

For information about the Upper Mississippi River National Wildlife and Fish Refuge and the U.S. Fish and Wildlife Service, contact: Tim Yager, Deputy Refuge Manager, Upper Mississippi River National Wildlife and Fish Refuge, 51 E 4th Street, Winona, MN 55987, by telephone at (507) 494-6219, or email at timothy_yager@fws.gov.

SUPPLEMENTARY INFORMATION: RUS, the lead Federal agency, has approved the C-HC Project to proceed to the RUS loan review and engineering review processes for Dairyland Power Cooperative's (Dairyland's) share in the construction of the C-HC Project. The USFWS has received an application package from ITC Midwest LLC (ITC Midwest) and Dairyland for a right-of-way (ROW) permit to cross the Upper Mississippi River National Wildlife and Fish Refuge (Refuge). The USFWS is obligated to review the right-of-way application package, complete an associated National Environmental Policy Act (NEPA) process, identify a preferred alternative, and decide whether or not to issue a right-of-way permit. Before a right-of-way permit can be issued, the USFWS must determine that the proposed use (a transmission line across the Refuge) is compatible with the purpose for which the Refuge was established. The USFWS has found the proposed transmission line ROW across the Refuge as presented in Alternative 6 and described in the right-of-way application from ITC Midwest and Dairyland to be compatible. As a cooperating agency, the USFWS agrees that the NEPA process is complete and the FEIS adequately describes impacts to the human environment. The FEIS will be used to inform USFWS decision makers on the impacts of allowing a transmission line ROW across the Refuge. The USACE will approve the ROW request and will issue permit applications required by Section 10 and Section 408 of the Rivers and Harbors Act and Section 404 of the Clean Water Act.

The ROD has been signed by the Administrator for the Rural Utilities Service, Regional Director for the USFWS in Unified Region 3, and Colonel Steven M. Sattinger, Commander and District Engineer for USACE, which was effective upon signing on January 17, 2020.

The RUS is the lead agency for the Federal environmental review, with USFWS, USACE, and the U.S. Environmental Protection Agency (USEPA) serving as cooperating agencies, and the National Park Service (NPS) as a participating agency. The FEIS was prepared pursuant to NEPA (United States Code [U.S.C.] 4231 et seq.) and in accordance with Council on Environmental Quality regulations for implementing the procedural provisions of NEPA (40 Code of Federal Regulations [CFR] 1500-1508), RUS Environmental Policies and Procedures (7 CFR 1970), USFWS Environmental Policies and Procedures (43 CFR 46.10-46.50 and 560 DM 8), and the USACE's NEPA implementing procedures (33 CFR 230.9). As the lead Federal agency, and as part of its broad environmental review process, RUS must take into account the effect of the C-HC Project on historic properties in accordance with Section 106 of the National Historic Preservation Act (16 U.S.C. 470f) and its implementing regulation “Protection of Historic Properties” (36 CFR 800). Pursuant to 36 CFR 800.2(d)(3), RUS used its procedures for public involvement under NEPA, in part, to meet its responsibilities to solicit and consider the views of the public and other interested parties during the Section 106 review process. Accordingly, comments submitted in the EIS process also informed RUS's decision making in the Section 106 review process. Dairyland is participating in the proposed project with two other utilities: American Transmission Company LLC and ITC Midwest (altogether referred to as “the Utilities”). The purpose of the proposed project is to: (1) Address reliability issues on the regional bulk transmission system, (2) alleviate congestion that occurs in certain parts of the transmission system and remove constraints that limit the delivery of power, (3) expand the access of the transmission system to additional resources, (4) increase the transfer capability of the electrical system between Iowa and Wisconsin, (5) reduce the losses in transferring power and increase the efficiency of the transmission system, and (6) respond to public policy objectives aimed at enhancing the nation's transmission system and to support the changing generation mix.

The C-HC Project includes the construction and operation of the 345-kV transmission line and its associated infrastructure, including the following facilities:

• At the existing Cardinal Substation in Dane County, Wisconsin: A new 345-kV terminal within the substation;

• At the proposed Hill Valley Substation near the village of Montfort, Wisconsin: An approximately 22-acre facility with five 345-kV circuit breakers, one 345-kV shunt reactor, one 345-/138-kV autotransformer, and three 138-kV circuit breakers;

• At the existing Eden Substation near the village of Montfort, Wisconsin: Transmission line protective relaying upgrades to be compatible with the new protective relays installed at the new Hill Valley Substation and replacement of conductors and switches to meet the Utilities' operating limits;

• Between the existing Eden Substation and the proposed Hill Valley Substation near the village of Montfort, Wisconsin: A rebuild of approximately 1 mile of the Hill Valley to Eden 138-kV transmission line;

• At the existing Wyoming Valley Substation near Wyoming, Wisconsin: Installation of nine 16-foot ground rods to mitigate potential fault current contributions from the proposed project;

• Between the existing Cardinal Substation and the proposed Hill Valley Substation: A new 53-mile 345-kV transmission line;

• Between the proposed Hill Valley Substation and existing Hickory Creek Substation: A new 49-mile 345-kV transmission line;

• At the Mississippi River in Cassville, Wisconsin: A relocation of the existing Mississippi River transmission line crossing to accommodate the new 345-kV transmission line and Dairyland's 161-kV transmission line, which would be capable of operating at 345-/345-kV but would initially be operated at 345-/161-kV;

• a new 161-kV terminal and transmission line protective relaying upgrades within the existing Nelson Dewey Substation in Cassville, Wisconsin;

• replacement or reinforcement of an existing transmission line structure within the Stoneman Substation in Cassville, Wisconsin;

• Multiple, partial, or complete rebuilds of existing 69-kV, 138-kV, and 161-kV transmission lines in Wisconsin that would be collocated with the new 345-kV line;

• At the existing Turkey River Substation in Clayton County, Iowa: One new 161-/69-kV transformer, three new 161-kV circuit breakers, and four new 69-kV circuit breakers; and

• At the existing Hickory Creek Substation in Dubuque County, Iowa: A new 345-kV terminal within the existing Hickory Creek Substation.

The decisions documented in the ROD are as follows:

• The RUS agrees to consider, subject to loan approval, financing Dairyland's share in the proposal. Details regarding RUS's regulatory authority, rationale for the decision, and compliance with applicable regulations are included in the ROD.

• The USFWS has determined that the NEPA review is complete and the FEIS adequately evaluates and describes impacts on the human environment. The USFWS agrees that the preferred alternative most effectively avoids, minimizes, and mitigates impacts to the Refuge. The USFWS also agrees that consultation under the Endangered Species Act is complete with the issuance of the biological opinion. The USFWS has found the transmission line route which crosses the Refuge as described in the preferred alternative to be compatible. The USFWS will continue to review a right-of-way permit application from ITC Midwest and Dairyland and will make a decision on granting a right-of-way permit within 270 days of signature of the ROD. Subsequent special use permits authorizing construction of the transmission line would be evaluated and issued after the right-of-way permit is granted.

• The USACE will issue a permit for the C-HC Project under Sections 10 and 14 of the Rivers and Harbors Act, for the crossing of the Mississippi River at the selected alternative. The USACE will also issue permits under Section 404 of the Clean Water Act, for activities that discharge fill into waters of the U.S., including wetlands. The USACE will also grant a ROW authorization to issue an easement across USACE-managed/owned lands for the selected alternative.

RUS published its Notice of Availability (NOA) for the Draft EIS (DEIS) in the Federal Register, 83 FR 235 (December 7, 2018), and in newspapers of general circulation within the proposed project's area of environmental impact. The USEPA published its notice of receipt of the DEIS in the Federal Register 83 FR 235 (December 7, 2018). The comment period for the DEIS was extended from February 5, 2019, to April 1, 2019, due to a partial lapse in Federal government funding.

Public meetings to receive comments on the DEIS were held from March 13 to 20, 2018, in Dodgeville, Barneveld, Cassville, and Middleton, Wisconsin, and Guttenberg and Peosta, Iowa. All comments received on the DEIS were addressed in the FEIS. The RUS published its NOA of the FEIS in the Federal Register 84 FR 205 (October 23, 2019) and in newspapers of general circulation within the proposed project's area of environmental impact. The USEPA published its notice receipt of the FEIS in the Federal Register 84 FR 2017 (October 25, 2019). The 30-day comment period ended on November 25, 2019. Comments received on the FEIS were addressed in the ROD.

The FEIS considered six action alternatives to meet the project need. These alternatives were evaluated in terms of ability to meet the purpose and need, technical feasibility, and environmental impacts (e.g., geology and soils; vegetation, including wetlands and special status plants; wildlife, including special status species; water resources and quality; air quality and climate change; noise; transportation; cultural and historic resources; land use, including agriculture and recreation; visual quality and aesthetics; socioeconomics and environmental justice; public health and safety; Upper Mississippi River National Wildlife and Fish Refuge; and cumulative effects).

The RUS selected Alternative 6. See ROD Section 2.6.1 “Selected Alternative and Agency Rationale” for the rationale for selecting Alternative 6. The resources or environmental impacts that could be affected by the C-HC Project selected alternative are summarized in the ROD Section 2.7 “Summary of Environmental Consequences.”

Based on an evaluation of the information and impact analyses presented in the FEIS, including the evaluation of all alternatives, and in consideration of RUS's NEPA implementing regulations, Environmental Policies and Procedures, as amended (7 CFR part 1970), RUS finds the evaluation of reasonable alternatives is consistent with NEPA.

Because the proposed project may involve action in floodplains or wetlands, this NOA also serves as a final notice of action in floodplains and wetlands (in accordance with Executive Orders 11988 and 11990).

The ROD is not a decision on Dairyland's loan application and therefore not an approval of the expenditure of Federal funds. This notice of the ROD concludes RUS's environmental review process in accordance with NEPA and RUS's Environmental Policies and Procedures (7 CFR 1970). The ultimate decision as to loan approval depends upon the conclusion of this environmental review process plus financial and engineering analyses. Issuance of the ROD will allow these reviews to proceed.

The ROD is not a decision on the ROW permit application the USFWS has received from Dairyland and ITC Midwest, and therefore not an approval for crossing the Refuge. This notice concludes USFWS's environmental review process in accordance with NEPA and USFWS Environmental Policies and Procedures (43 CFR 46.10-46.450 and 516 DM 8). Processing, review, and further evaluation of the ROW permit application received from Dairyland Power and ITC can proceed with issuance of the ROD.

Chad Rupe,
Administrator, Rural Utilities Service.

[FR Doc. 2020-02946 Filed 2-13-20; 8:45 am]

BILLING CODE 3410-15-P